DEPARTMENT OF ENERGY

Federal Energy Regulatory Commission

18 CFR Part 284

[Docket Nos. RM98-10-000 and RM98-12-000]

Regulation of Short-Term Natural Gas Transportation Services, and Regulation of Interstate Natural Gas Transportation Services

July 10, 2000.

AGENCY: Federal Energy Regulatory Commission, DOE.

ACTION: Final Rule: Clarification of Filing Procedures for Order No. 637 Compliance Filings.

SUMMARY: In Order No. 637-A (65 FR 35706, June 5, 2000), issued on May 19, 2000, the Federal Energy Regulatory Commission established procedures for filing pro forma tariff sheets electronically through Internet E-Mail. This document clarifies the filing procedures for the pro forma compliance filings.

DATES: This rule is effective July 10, 2000.

ADDRESSES: Federal Energy Regulatory Commission, 888 First Street, NE, Washington, DC 20426.

FOR FURTHER INFORMATION CONTACT: Michael Goldenberg, Office of the General Counsel, Federal Energy Regulatory Commission, 888 First Street, NE, Washington, DC 20426, (202) 208-2294.

William P. Bushey, Office of Markets, Tariffs and Rates, Federal Energy Regulatory Commission, 888 First Street, NE, Washington, DC 20426, (202) 208-0130.

SUPPLEMENTARY INFORMATION:

Notice Clarifying Filing Procedures for Order No. 637 Compliance Filings

In Order No. 637-A, issued on May 19, 2000,¹ the Federal Energy Regulatory Commission (Commission) established procedures for filing pro forma tariff sheets in compliance with the order electronically through Internet E-Mail. Pipelines are to make the required filings on June 15, July 17, and August 15, 2000.² According to the procedures, pipelines may file the electronic pro forma tariff sheets through Internet E-Mail to 637FASTR@ferc.fed.us in the following format: on the subject line, specify the name of the filing entity; in the body of the E-Mail, specify the name, telephone number, and E-Mail address of a contact person; the pro forma tariff sheets should be attached to the E-Mail message. Pipelines not filing using Internet E-Mail are to file the pro forma tariffs on diskette along with the paper filing and must label the diskette as containing pro forma tariff sheets.

¹ Regulation of Short-Term Natural Gas Transportation Services and Regulation of Interstate Natural Gas Transportation Services, Order No. 637-A, 65 FR 35706, 35764 (Jun. 5, 2000), III FERC Stats. & Regs. Regulations Preambles ¶ 31,099, at 31,649 (May 19, 2000).

² Regulation of Short-Term Natural Gas Transportation Services, 91 FERC ¶ 61,020 (2000).

During the first set of compliance filings, questions about the procedures were raised. The following is intended to clarify the procedures for the last two sets of filings.

1. To identify the Pro Forma tariff sheets, the word “Pro Forma” should appear on each sheet before the volume name, e.g., Pro Forma Second Revised Volume No. in the upper left hand side of each sheet. The word Pro Forma need not appear before the sheet number on the upper right hand side of each sheet.

2. The E-mail file containing the Pro Forma tariff sheets should be labeled 〈company name, or abbreviation, limited to two words〉 followed by 637.asc. For example, Columbiagulf637.asc; MIGC637.asc; or Transco637.asc is acceptable.

3. A diskette containing an electronic copy of the notice of filing is not required for the initial Order No. 637 compliance filing. A basket notice will be issued identifying all pipelines filing on July 17 and August 15, 2000. However, if the initial Order No. 637 application is amended, the amended filing must contain a diskette with a copy of the notice. The electronic notice for an amended application should not be filed as part of the E-mail filing which should only contain the Pro Forma tariff sheets.

4. For the purpose of paginating tariff sheets, the Pro Forma tariff sheet is for informational purposes and is not an effective tariff sheet. The Pro Forma tariff sheet cannot be superseded, so the pagination of any subsequent live tariff filing should be made as if the Pro Forma Sheet had not been filed.

David P. Boergers,
Secretary.

[FR Doc. 00-17863 Filed 7-13-00; 8:45 am]

BILLING CODE 6717-01-M